NUCLEAR REGULATORY COMMISSION

[Docket No. 030-28641]

Notice of Issuance of License Amendment for Release of Four 0T-10 Radiation Training Sites for Unrestricted Use; Department of the Air Force, Kirtland Air Force Base, Albuquerque, NM

AGENCY: Nuclear Regulatory Commission.

ACTION: Notice of Issuance of License Amendment.

FOR FURTHER INFORMATION CONTACT: Rachel S. Browder, M.S., Project Manager, Nuclear Materials Licensing Branch, Division of Nuclear Materials Safety, Region IV, U.S. Nuclear Regulatory Commission, 611 Ryan Plaza Drive, Suite 400, Arlington, Texas 76011. Telephone: (817) 276-6552; fax number: (817) 860-8188; e-mail: rsb3@nrc.gov.

SUPPLEMENTARY INFORMATION:

I. Introduction

Pursuant to 10 CFR 2.106, the Nuclear Regulatory Commission (NRC) is providing notice of the issuance of License Amendment 19 to Material License No. 42-23539-01AF to Department of the Air Force, to authorize the release of four OT-10 training sites at Kirtland Air Force Base, Albuquerque, New Mexico for unrestricted use. The Department of the Air Force's request for an amendment to authorize decommissioning of its four OT-10 training sites was previously notice in the Federal Register on June 22, 2001 (66 FR 33579) with a notice of an opportunity to request a hearing.

The Department of the Air Force provided a final radiological status survey report to demonstrate the OT-10 site meets the license termination criteria in Subpart E of 10 CFR Part 20. In addition, NRC staff conducted independent radiological measurements of soils and surfaces at the site. The NRC staff has evaluated the Department of the Air Force's request, reviewed the results of the final radiological survey, and determined that the four OT-10 training sites: TS5, TS6, TS7, and TS8, including building 28010 but excluding building 28005, meet the unrestricted use dose criteria in 10 CFR 20.1402. The Commission has concluded that the respective OT-10 training sites as specified, are suitable for release for unrestricted use.

This license amendment complies with the standards and requirements of the Atomic Energy Act of 1954, as amended, and NRC's rules and regulations set forth in 10 CFR Chapter 1. Accordingly, this license amendment was issued on December 12, 2005, and is effective immediately.

II. Further Information

The NRC has prepared a Final Safety Evaluation Report (SER), December 2005, which documents the information that was reviewed and NRC's conclusion. In accordance with 10 CFR 2.390 of the NRC's “Rules of Practice,” details with respect to this action, including the SER and accompanying documentation included in the license amendment package, are available electronically at the NRC's Electronic Reading Room at http://www.nrc.gov/reading-rm/adams.html. From this site, you may access the NRC's Agencywide Document Access and Management System (ADAMS), which provides text and image files of NRC's public documents. The ADAMS accession numbers for the documents related to this notice are as follows.

NRC Inspection Report, March 26, 2003 | MS030850371
NRC Inspection Report, July 24, 2003 | ML032050716
NRC Inspection Report, September 9, 2003 | ML032521325
NRC Inspection Report, May 3, 2004 | ML041250063
Safety Evaluation Report, January 2003 | ML030080421
Decommissioning Plan for Site OT-10, Radiation Training Sites, Kirtland Air Force Base, New Mexico, July 2000 | ML011560740
Decommissioning Plan for Site OT-10, Radiation Training Sites, Kirtland Air Force Base, New Mexico, Submitted November 2002 | ML023390060.
Final Status Survey Report for Environmental Restoration Program Site OT-10, Radiation Training Sites, Kirtland Air Force Base, New Mexico, May 2005 | ML051570099 ML051570105.
Final Safety Evaluation Report, December 2005 | ML053460250.

If you do not have access to ADAMS or if there are problems in accessing the documents located in ADAMS, contact the NRC Public Document Room (PDR) reference staff at 1-800-397-4209, 301-415-4737, or by e-mail to pdr@nrc.gov.

These documents may also be viewed electronically on the public computers located at the NRC's PDR, O 1 F21, One White Flint North, 11555 Rockville Pike, MD 20852. The PDR reproduction contractor will copy documents for a fee.

Dated at Arlington, Texas, this 22nd day of December, 2005.
For the Nuclear Regulatory Commission.
Jack E. Whitten,
Chief, Nuclear Materials Licensing Branch, Division of Nuclear Materials Safety, Region IV.

[FR Doc. 06-361 Filed 1-12-06; 8:45 am]

BILLING CODE 7590-01-M